DEPARTMENT OF DEFENSE

Office of the Secretary

General Solicitation of Comments From the General Public on Review of the National Information Assurance Partnership (NIAP)

AGENCY: Office of the Secretary, DOD, National Cyber Security Division, DHS.

ACTION: Notice for general solicitation of comments.

SUMMARY: The National Strategy to Secure Cyberspace, issued by the Office of the President in February of 2003 required the Federal Government to conduct a comprehensive review of the National Information Assurance Partnership (NIAP) to determine the extent to which it is adequately addressing the continuing problem of security flaws in commercial software products. The Department of Defense (DoD) and the Department of Homeland Security (DHS) were tasked with conducting the review on behalf of the Federal government. In an effort to ensure a comprehensive review of the subject, DoD and DHS seek public comment on the issues that should be considered before completing this review.

DATES: Comments must be received on or before March 4, 2005.

ADDRESSES: Submit comments electronically to DOD/DHS at NIAPReview@ida.org. Send written comments to: The Institute for Defense Analyses, 4850 Mark Center Drive, Alexandria, VA 22311, Attention: NIAP Review.

FOR FURTHER INFORMATION CONTACT: Dr. Greg Larsen, Institute for Defense Analyses, (703) 845-6661, e-mail: glarsen@ida.org.

SUPPLEMENTARY INFORMATION: During this review, DoD and DHS considered the results of current policy and practices, the general efficacy and adequacy of current capabilities, and the expectations of stakeholders. In addition, the scope of the review was extended beyond NIAP security testing, evaluation and assessment of information technology (IT) products to include the policy support infrastructure and integration into system development acquisition processes.

NIAP is a U.S. Government initiative originated to meet the security testing needs of both IT consumers and producers. NIAP is collaboration between the National Institute of Standards and Technology (NIST) and the National Security Agency (NSA) in fulfilling their respective responsibilities under Pub. L. 100-235 (Computer Security Act of 1987). To obtain more information on NIAP please go to: http://niap.nist.gov/.

To obtain a copy of The National Strategy to Secure Cyberspace please go to: http://www.dhs.gov/interweb/assetlibrary/National_Cyberspace_Strategy,pdf.

January 28, 2005.
Jeannette Owings-Ballard,
OSD Federal Register Liaison Officer, Department of Defense

[FR Doc. 05-1912 Filed 2-1-05; 8:45 am]

BILLING CODE 5001-06-M